DEPARTMENT OF ENERGY

Federal Energy Regulatory Commission

Notice of Declaration of Intention and Petition for Relief, and Soliciting Comments, Protests, and/or Motions To Intervene

August 10, 2005.

Take notice that the following application has been filed with the Commission and is available for public inspection:

a. Application Type: Declaration of Intention and Petition for Relief.

b. Docket No: DI05-3-000.

c. Date Filed: July 11, 2005.

d. Applicant: Energetech America, L.L.C.

e. Name of Project: Green Wave Rhode Island Ocean Wave Energy Project.

f. Location: The proposed Green Wave Rhode Island Ocean Wave Energy Project will be located in the tidal waters near the Point Judith Harbor of Refuge in the Town of Narragansett, Washington County, Rhode Island.

g. Filed Pursuant to: Section 23(b)(1) of the Federal Power Act, 16 U.S.C. 817(b).

h. Applicant Contact: Ms. Cynthia Rudge, Energetech Australia, 44 Jackes Avenue, Suite 1205, Toronto, Canada M4T 1E5; telephone and fax (416) 410-2900, e-mail address: betsy@energetech.com.au.

i. FERC Contact: Any questions on this notice should be addressed to Henry Ecton, (202) 502-8768, or e-mail address: henry.ecton@ferc.gov.

j. Deadline for filing comments, protests, and/or motions: September 12, 2005.

All documents (original and eight copies) should be filed with: Magalie R. Salas, Secretary, Federal Energy Regulatory Commission, 888 First Street, NE., Washington, DC 20426. Comments, protests, and interventions may be filed electronically via the Internet in lieu of paper. Any questions, please contact the Secretary's Office. See, 18 CFR 385.2001(a)(1)(iii) and the instructions on the Commission's Web site at http://www.ferc.gov.

Please include the docket number (DI05-3-000) on any comments, protests, or motions filed.

k. Description of Project: The proposed wave-to-energy prototype would include (1) an off-shore floating steel frame structure comprised of a parabolic shaped steel wall, an oscillating water column/wave chamber, and a 500-kW wave-induced air turbine-generator, moored to an array of twelve piles embedded into the seafloor; (2) an approximately 1.2-mile-long transmission cable to convey electricity to the on-shore transformer; and (3) appurtenant facilities. The power would be connected to an interstate grid. It will not occupy any tribal lands.

When a Declaration of Intention is filed with the Federal Energy Regulatory Commission, the Federal Power Act requires the Commission to investigate and determine if the interests of interstate or foreign commerce would be affected by the project. The Commission also determines whether or not the project: (1) Would be located on a navigable waterway; (2) would occupy or affect public lands or reservations of the United States; (3) would utilize surplus water or water power from a government dam; or (4) if applicable, has involved or would involve any construction subsequent to 1935 that may have increased or would increase the project's head or generating capacity, or have otherwise significantly modified the project's pre-1935 design or operation.

l. Petition for Declaratory Intent: Energetech requested that it be allowed to install and operate the facilities listed above, and to deliver power from the project into the facilities of Narragansett Electric Company, without a license under part I of the Federal Power Act, because Energetech believes its proposal does not come under the definition of a hydropower project under the FPA.

If the prototype is determined to be required to be licensed, Energetech requests the Commission to issue a license on the basis of the Rhode Island Coastal Resource Management Council's (CRMC) decision and the record established in connection therewith, adopting the same or similar license conditions or provisions to avoid conflicts. Further, Energetech requests that the Commission waive all of its requirements relating to applications for exemption from licensing and accept the application to the CRMC in its entirety (once determined to be technically and administratively complete) as a complete application for exemption for licensing, waive the procedural requirements for consideration for such an application from exemption from licensing, and grant Energetech such an exemption from licensing for the project.

m. Locations of the Application: Copies of this filing are on file with the Commission and are available for public inspection. This filing may be viewed on the web at http://www.ferc.gov using the “eLibrary” link. Enter the docket number excluding the last three digits in the docket number field to access the document. For assistance, please contact FERC Online Support at FERCOnlineSupport@ferc.gov or toll-free at (866) 208-3676, or TTY, contact (202) 502-8659.

n. Individuals desiring to be included on the Commission's mailing list should so indicate by writing to the Secretary of the Commission.

o. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

p. Filing and Service of Responsive Documents—Any filings must bear in all capital letters the title “COMMENTS”, “PROTESTS”, and/or “MOTIONS TO INTERVENE”, as applicable, and the Docket Number of the particular application to which the filing refers. A copy of any motion to intervene must also be served upon each representative of the Applicant specified in the particular application.

q. Agency Comments—Federal, State, and local agencies are invited to file comments on the described application. A copy of the application may be obtained by agencies directly from the Applicant. If an agency does not file comments within the time specified for filing comments, it will be presumed to have no comments. One copy of an agency's comments must also be sent to the Applicant's representatives.

Linda Mitry,
Deputy Secretary.

[FR Doc. E5-4436 Filed 8-15-05; 8:45 am]

BILLING CODE 6717-01-P